DEPARTMENT OF ENERGY

Federal Energy Regulatory Commission

[Project No. 14838-000]

Energy Resources USA, Inc.; Notice of Preliminary Permit Application Accepted for Filing and Soliciting Comments and Motions To Intervene

On February 9, 2017, Energy Resources USA Inc., (Energy Resources) filed an application for a preliminary permit, pursuant to section 4(f) of the Federal Power Act (FPA), proposing to study the feasibility of the Caddo Dam Hydroelectric Project (project) to be located at the U.S. Army Corps of Engineers' Caddo Dam on the Cypress Bayou in Caddo Parish County, Louisiana. The sole purpose of a preliminary permit, if issued, is to grant the permit holder priority to file a license application during the permit term. A preliminary permit does not authorize the permit holder to perform any land-disturbing activities or otherwise enter upon lands or waters owned by others without the owners' express permission.

The proposed project would consist of the following: (1) A 70-foot-long, 60-foot-wide intake area; (2) a 75-foot-long, 36-foot-wide powerhouse containing two vertical Kaplan generating units with a total capacity of 5 megawatts; (3) a 350-foot-long, 65-foot-wide tailrace; (4) a 60-foot-long, 50-foot-wide substation; and (5) a 0.35-mile-long, 69 kilovolt transmission line. The estimated annual generation of the project would be 21.15 gigawatt-hours, and would operate as directed by the U.S. Army Corps of Engineers.

Applicant Contact: Mr. Bernard Mount, Senior Project Manager, Energy Resources USA Inc., 4305 N Lincoln Ave., Room C, Chicago, Illinois 60618; phone: (312) 859-2032.

FERC Contact: Navreet Deo; phone: (202) 502-6304.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14838-000.

More information about this project, including a copy of the application, can be viewed or printed on the “eLibrary” link of Commission's Web site at http://www.ferc.gov/docs-filing/elibrary.asp. Enter the docket number (P-14838-000) in the docket number field to access the document. For assistance, contact FERC Online Support.

Dated: March 8, 2017.
Kimberly D. Bose,
Secretary.

[FR Doc. 2017-05206 Filed 3-15-17; 8:45 am]

BILLING CODE 6717-01-P